ENVIRONMENTAL PROTECTION AGENCY

[EPA-HQ-OPPT-2015-0785; FRL-9953-39]

2017 Safer Choice Partner of the Year Awards Program

AGENCY: Environmental Protection Agency (EPA).

ACTION: Notice.

SUMMARY: EPA is seeking applications for the 2017 Safer Choice Partner of the Year Awards. In 2015, EPA developed the Partner of the Year Awards to recognize Safer Choice stakeholders who have advanced the goals of the Pollution Prevention Act and the Safer Choice program by reducing pollution at its source through safer chemistry. At the 2017 Partner of the Year Awards, as at the two prior awards, Safer Choice will recognize stakeholder organizations from five broad categories: Formulators/Product Manufacturers of both Consumer and Institutional/Industrial (I/I) products, Purchasers and Distributors, Retailers, Supporters (e.g., non-governmental organizations), and Innovators (e.g., chemical manufacturers). All applications and accompanying materials must be received by Friday, December 16, 2016. Award winners will be recognized at a ceremony in late spring 2017.

FOR FURTHER INFORMATION CONTACT: For technical information contact: Chen Wen, Chemistry, Economics and Sustainable Strategies Division, Office of Pollution Prevention and Toxics, Environmental Protection Agency, 1200 Pennsylvania Ave. NW., Washington, DC 20460-0001; telephone number: (202) 564-8849; email address: wen.chen@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you are a Safer Choice program partner or stakeholder. The following list of North American Industrial Classification System (NAICS) codes is not intended to be exhaustive, but rather provides a guide to help readers determine whether this document applies to them. Potentially affected entities may include:

NAICS Code | Affected industry
325510 | Paint and Coating Manufacturing.
325611 | Soap and Other Detergent Manufacturing.
325612 | Polish and Other Sanitation Good Manufacturing.
325910 | Printing Ink Manufacturing.
325992 | Photographic Film, Paper, Plate, and Chemical Manufacturing.
325998 | All Other Miscellaneous Chemical Product and Preparation Manufacturing.
561210 | Facilities Support Services.
561720 | Janitorial Services.
561740 | Carpet and Upholstery Cleaning Services.
611310 | Colleges, Universities, and Professional Schools.
8123 | Dry Cleaning and Laundry Services.
921190 | Other General Government Support.

B. How can I get related information?

The full Safer Choice Partner of the Year Awards announcement and award application materials can be found at: https://www.epa.gov/saferchoice/safer-choice-partner-year-awards.

C. How can I get copies of this document and other related information?

The docket for this action, identified by docket identification (ID) number EPA-HQ-OPPT-2015-0785, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the agency taking?

EPA is seeking applications for the 2017 Safer Choice Partner of the Year Awards. In 2015, EPA developed the Partner of the Year Awards to recognize Safer Choice stakeholders who have advanced the goals of the Pollution Prevention Act and the Safer Choice program by reducing pollution at its source through safer chemistry. The Safer Choice Partner of the Year Awards recognize program participants for advancing the goal of chemical safety through exemplary participation in or promotion of the Safer Choice Program. Safer Choice Program participants are continually driving innovation to make chemical products safer. Our program currently labels more than 2,000 products, used by consumers, institutions and industry that meet our Safer Choice Standard. The 2017 Partner of the Year Awards will be the third annual event, with recognition for Safer Choice stakeholder organizations from five broad categories: (1) Formulators/Product Manufacturers of both Consumer and Institutional/Industrial (I/I) products, (2) Purchasers and Distributors, (3) Retailers, (4) Supporters (e.g., non-governmental organizations, including environmental and health advocates, trade associations, academia, sports teams, and others), and (5) Innovators (e.g., chemical manufacturers, technology developers, and others).

The award application and instructions are available at https://www.epa.gov/saferchoice/safer-choice-partner-year-awards. Interested applicants may also register for webinars on the award application process by visiting the Web site. All applications and accompanying materials must be received by Friday, December 16, 2016. Award winners will be recognized at a ceremony in late spring 2017.

Authority: 15 U.S.C. 2601 et seq.

Dated: October 3, 2016.
Wendy C. Hamnett,
Director, Office of Pollution Prevention and Toxics.

[FR Doc. 2016-24494 Filed 10-7-16; 8:45 am]

BILLING CODE 6560-50-P